DEPARTMENT OF HOMELAND SECURITY

Coast Guard

[Docket No. USCG-2016-0301]

Navigation Safety Advisory Council; Vacancies

AGENCY: Coast Guard, Department of Homeland Security.

ACTION: Request for applications.

SUMMARY: The Coast Guard seeks applications for membership on the Navigation Safety Advisory Council. The Navigation Safety Advisory Council provides advice and recommendations to the Secretary of Homeland Security, through the Commandant of the U.S. Coast Guard, on matters relating to maritime collisions, rammings, and groundings; Inland Rules of the Road; International Rules of the Road; navigation regulations and equipment, routing measures, marine information, diving safety, and aids to navigation systems.

DATES: Completed applications should reach the Coast Guard on or before August 15, 2016.

ADDRESSES: Applicants should send a cover letter expressing interest in an appointment to the Navigation Safety Advisory Council that identifies which membership category the applicant is applying under, along with a resume detailing the applicant's experience via one of the following methods:

• By Email: to George.H.Detweiler@uscg.mil (preferred);

• By Mail: Commandant (CG-NAV-2)/NAVSAC Attn: Mr. George Detweiler, Alternate Designated Federal Officer, Commandant (CG-NAV-2), U.S. Coast Guard, 2703 Martin Luther King Avenue SE., STOP 7418, Washington, DC 20593-7418; or

• By Fax: 202-372-1991.

FOR FURTHER INFORMATION CONTACT: Mr. George Detweiler, the Navigation Safety Advisory Council Alternate Designated Federal Officer, telephone 202-372-1566, fax 202-372-1991, or email George.H.Detweiler@uscg.mil.

SUPPLEMENTARY INFORMATION: The Navigation Safety Advisory Council is a federal advisory committee authorized by 33 U.S.C. 2073 and chartered under the provisions of the Federal Advisory Committee Act, (Title 5 U.S.C. Appendix).

The Navigation Safety Advisory Council provides advice and recommendations to the Secretary of Homeland Security, through the Commandant of the U.S. Coast Guard, on matters relating to maritime collisions, rammings, and groundings; Inland Rules of the Road; International Rules of the Road; navigation regulations and equipment, routing measures, marine information, diving safety, and aids to navigation systems.

The Navigation Safety Advisory Council is expected to meet at least twice each year. All members serve at their own expense and receive no salary from the Federal Government, although travel reimbursement and per diem may be provided for called meetings.

The Coast Guard will consider applications for seven positions that will be vacant on November 4, 2016, in the following membership categories only:

a. Commercial vessel owners and operators;

b. Professional mariners;

c. Recreational boaters;

d. Recreational Boating Industry; and

e. State agencies responsible for vessel or port safety.

To be eligible, applicants should have experience in one of the categories listed above. Members serve terms of office of up to three (3) years. Members are limited to serving no more than two (2) consecutive terms. In the event the Navigation Safety Advisory Council terminates, all appointments to the Council terminate.

Registered lobbyists are not eligible to serve on federal advisory committees in an individual capacity. See “Revised Guidance on Appointment of Lobbyists to Federal Advisory Committees, Boards and Commissions” (79 FR 47482, August 13, 2014). Registered lobbyists are lobbyists required to comply with provisions contained in 2 U.S.C. 1605.

The Department of Homeland Security does not discriminate in selecting Council members on the basis of race, color, religion, sex, national origin, political affiliation, sexual orientation, gender identity, marital status, disability and genetic information, age, membership in an employee organization, or any other non-merit factor. The Department of Homeland Security strives to achieve a widely diverse candidate pool for all of its recruitment actions.

If you are interested in applying to become a member of the Council, submit your complete application package to Mr. George Detweiler, the Navigation Safety Advisory Council Alternate Designated Federal Officer via one of the transmittal methods in the ADDRESSES section by the deadline in the DATES section of this notice.

All email submittals will receive email receipt confirmation.

Dated: June 10, 2016.
David C. Barata,
Captain, U.S. Coast Guard, Acting Director, Marine Transportation Systems.

[FR Doc. 2016-14154 Filed 6-14-16; 8:45 am]

BILLING CODE 9110-04-P